DEPARTMENT OF HEALTH AND HUMAN SERVICES

Centers for Disease Control and Prevention

[Program Announcement 02089]

Thalassemia Prevention Education and Outreach; Notice of Availability of Funds

A. Purpose

The Centers for Disease Control and Prevention (CDC) announces the availability of fiscal year (FY) 2002 funds for a cooperative agreement program for Thalassemia Prevention Education and Outreach. This program addresses the “Healthy People 2010” focus area(s) of Disability, Secondary Conditions, Education, and Community-Based Programs.

The purpose of the program is to increase access to prevention services for persons with thalassemia by supporting prevention education and outreach activities to increase knowledge about proven prevention strategies, and encourage adoption of healthy behaviors that reduce or prevent complications of thalassemia including prevention of blood borne infections.

B. Eligible Applicants

Applications may be submitted by public and private nonprofit organizations and by governments and their agencies; that is, universities, colleges, research institutions, hospitals, other public and private nonprofit organizations, State and local governments or their bona fide agents, including the District of Columbia, the Commonwealth of Puerto Rico, the Virgin Islands, the Commonwealth of the Northern Mariana Islands, American Samoa, Guam, the Federated States of Micronesia, the Republic of the Marshall Islands, and the Republic of Palau, federally recognized Indian tribal governments, Indian tribes, or Indian tribal organizations and Faith-based organizations are eligible for this award.

Note: Title II of the United States Code section 1611 states that an organization described in section 501(c)(4) of the Internal Revenue Code that engages in lobbying activities is not eligible to receive Federal funds constituting an award, grant or loan.

C. Availability of Funds

Approximately $150,000 is available in FY 2002 to fund one award. It is expected that the award will begin on or about September 1, 2002 and will be made for a 12-month budget period within a project period of up to five years. The funding estimate may change.

Continuation awards within an approved project period will be on the basis of satisfactory progress as evidenced by required reports and the availability of funds.

Funding Preference

Preference will be given to a national nonprofit organization with a current working relationship with the thalassemia community including local chapters and foundations as well as thalassemia treatment and prevention center provider groups in order to enhance the national thalassemia prevention program.

D. Program Requirements

In conducting activities to achieve the purpose of this program, the recipient will be responsible for the activities under 1. (Recipient Activities) and CDC will be responsible for the activities listed under 2. (CDC Activities).

1. Recipient Activities

a. Work with locally based thalassemia treatment centers and lay organizations to develop and implement outreach goals to increase access of healthcare and prevention services to under-served populations.

b. Encourage use of appropriate safety precautions to reduce transmission of blood borne infections through the use of blood products. Participate in a formalized network of communication with the CDC and other Federal agencies when blood safety and availability issues arise. Encourage community participation in blood safety monitoring efforts.

c. Provide opportunities for thalassemia treatment center nurse coordinators to receive state of the art prevention information and training in order to deliver consistent prevention messages to persons with thalassemia.

d. Facilitate provider involvement and collaboration in consumer-based program activities between the recipient and the thalassemia treatment and prevention centers.

2. CDC Activities

a. Provide scientific and public health information regarding the prevention of complications of thalassemia. This includes reviewing educational and promotional materials developed by the proposed program.

b. Provide consultation and technical assistance for program planning, development, implementation, and evaluation, which may include consulting with committees or working groups whose operations may impact the proposed programs.

c. Collaborate in the presentation, publication, and dissemination of information resulting from these activities.

d. Facilitate provider involvement and collaboration in consumer-based program activities between the recipient and the thalassemia treatment and prevention centers.

E. Content

Letter of Intent (LOI)

An LOI is optional for this program. The narrative should be no more than 3 single-spaced pages, printed on one side, with one-inch margins, and unreduced font. Your letter of intent will be used to enable CDC to plan for the review, and should include the following information (1) the Program Announcement Number 02089, (2) name and address of institution, (3) name, address, and telephone number of contact person. Notification can be provided by facsimile, postal mail, or electronic mail (E-mail).

Applications

Use the information in the Program Requirements, Other Requirements, and Evaluation Criteria sections to develop the application content. Your application will be evaluated on the criteria listed, so it is important to follow them in laying out your program plan. The narrative should be no more than 25 double-spaced pages, printed on one side, with one-inch margins, and unreduced font.

The application should include:

1. Background and Need

Describe the need for prevention information, education, and outreach programs. Explain the basis for providing such programs, expected outcomes and the relevance to preventing complications, and promoting healthy behaviors among people with thalassemia.

2. Objectives

Establish long-range (five year) and short-term (one year) objectives for programmatic plans. Objectives should be specific, measurable, time-phased and realistic.

3. Operational Plan

Describe the methods by which the objectives will be achieved, including their sequence.

4. Evaluation Plan

Describe the plans to monitor the progress of the program, and to evaluate the outcomes of the proposed activities.

5. Program Management

Describe the roles and responsibilities of all project staff in the proposed project. The description should include their titles, qualifications, and experience, as well as the percentage of time each will devote to the project, and the portions of their salaries to be paid by the cooperative agreement.

6. Collaboration With Treatment Centers

Describe plans to include local treatment centers in the program.

7. Budget

A detailed first year's budget for the cooperative agreement with projections for the next four additional years.

F. Submission and Deadline

Letter of Intent (LOI)

On or before June 15, 2002, submit the Letter of Intent to the Grants Management Specialist identified in the “Where to Obtain Additional Information” section of this announcement.

Application

Submit the original and two copies of PHS 5161-1 (OMB Number 0920-0428). Forms are available in the application kit and at the following Internet address: www.cdc.gov/od/pgo/forminfo.htm.

On or before July 15, 2002, 5:00 pm Eastern Time, submit the application to: Technical Information Management Section-PA 02089, Procurement and Grants Office, Centers for Disease Control and Prevention (CDC), 2920 Brandywine Road, Room 3000, Atlanta, GA 30341-4146.

Applications will be considered as meeting the deadline if they are received on or before the deadline date. Late applications will be returned to the applicant.

G. Evaluation Criteria

Each application will be evaluated individually against the following criteria by an Independent Review Group appointed by CDC.

1. Background and Need (20 points)

The extent to which the applicant understands the needs, problems, objectives and complexities of the program.

2. Objectives (15 points)

The extent to which the proposed objectives are clearly stated, realistic, time-phased, and related to the purpose of the project.

3. Operational Plan (25 points)

The extent to which the applicant provides a detailed plan of proposed activities which are likely to achieve each objective and overall program goals. The extent to which the applicant provides a reasonable and complete schedule for implementing activities of the program.

4. Evaluation Plan (15 points)

The extent to which the proposed evaluation plan is detailed, addresses goals and objectives of the program, and will document the program process, effectiveness and outcome. The extent to which a feasible plan for reporting evaluation results and using evaluation information for programmatic decisions is present.

5. Program Management (20 points)

a. The extent to which the applicant proposes potentially effective collaborations with treatment centers. (10 points)

b. The extent to which professional personnel proposed to be involved in this project are qualified, including evidence of past achievements appropriate to this project. (10 points)

6. Measures of Effectiveness (5 points)

The extent to which the applicant provide Measures of Effectiveness that will demonstrate the accomplishment of the various identified objectives of the grant. Are the measures objective/quantitative and do they adequately measure the intended outcome?

7. Budget (Not scored)

The extent to which the applicant provides a detailed budget and narrative justification consistent with stated objectives and planned program activities.

H. Other Requirements

Technical Reporting Requirements

Provide CDC with original plus two copies of

1. Semiannual progress reports;

2. Financial status report, no more than 90 days after the end of the budget period; and

3. Final financial report and performance report, no more than 90 days after the end of the project period.

Send all reports to the Grants Management Specialist identified in the “Where to Obtain Additional Information” section of this announcement.

The following additional requirements are applicable to this program. For a complete description of each, see Attachment I of the announcement.

AR-10 Smoke-Free Workplace Requirements

AR-11 Healthy People 2010

AR-12 Lobbying Restrictions

AR-15 Proof of Non-Profit Status

I. Authority and Catalog of Federal Domestic Assistance Number

This program is authorized under section 301(a) [42 U.S.C. 241(a)] and 317 (k)(2) [42 U.S.C. 247b(k)(2)] of the Public Health Service Act, as amended. The Catalog of Federal Domestic Assistance number is 93.283.

J. Where To Obtain Additional Information

This and other CDC announcements can be found on the CDC home page Internet address— http://www.cdc.gov. Click on “Funding” then “Grants and Cooperative Agreements.”

If you have questions after reviewing the contents of all the documents, business management technical assistance may be obtained from: Merlin Williams, Grants Management Specialist, Grants Management Branch, Procurement and Grants Office, Centers for Disease Control and Prevention, 2920 Brandywine Road, Room 3000, Mailstop K-75, Atlanta, GA 30341-4146. Telephone number: 770-488-2765. E-mail address: mwilliams2@cdc.gov.

For program technical assistance, contact: Sally Crudder, Acting Deputy Chief, Hematologic Diseases Branch, National Center for Infectious Diseases, Centers for Disease Control and Prevention, 1600 Clifton Road, N.E. Mailstop E-64, Atlanta, Georgia 30333. Telephone number: 404-371-5270 or 5903. E-mail address: scrudder@cdc.gov.

Dated: April 26, 2002.
Sandra R. Manning,
Director, Procurement and Grants Office, Centers for Disease Control and Prevention (CDC).

[FR Doc. 02-10834 Filed 5-2-02; 8:45 am]

BILLING CODE 4163-18-P